DEPARTMENT OF AGRICULTURE

Submission for OMB Review; Comment Request

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by January 28, 2019 will be considered. Written comments should be addressed to: Desk Officer for Agriculture, Office of Information and Regulatory Affairs, Office of Management and Budget (OMB), New Executive Office Building, 725 17th Street NW, Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Citrus Greening and Asian Citrus Psyllid; Quarantine and Interstate Movement Regulations.

OMB Control Number: 0579-0363.

Summary of Collection: The Plant Protection Act (7 U.S.C. 7701 et seq.) authorizes the Secretary of Agriculture either independently or in cooperation with the States, to carry out operations or measures to detect, eradicate, suppress, control, prevent, or retard the spread of plant pests (such as citrus canker) new or widely distributed throughout the United States. The Animal and Plant Health Inspection Service (APHIS) amended the “Domestic Quarantine Notices” in 7 CFR part 301 by adding a new subpart, “Citrus Greening and Asian Citrus Psyllid (ACP)” (§§ 301.76 through 301.76-11). Citrus greening, also known as Huanglonghing disease of citrus, is considered to be one of the most serious citrus diseases in the world.

Need and Use of the Information: APHIS will collect information using the following activity to address the risk associated with the interstate movement of citrus nursery stock and other regulated articles from areas quarantined for citrus greening: Limit Permit (PPO Form 530), Federal Certificate (PPO Form 540), Compliance Agreement (PPO Form 519), Label Statement, Recordkeeping, Attaching Tag to Bill of Lading, Cancellation of Certificates, Permits, and Compliance Agreements, 72 Hour Notification of Inspection, and Emergency Action Notification. Failing to collect this information could cause a severe economic loss to the citrus industry.

Description of Respondents: Business or other for-profit.

Number of Respondents: 639.

Frequency of Responses: Recordkeeping; Reporting: On occasion.

Total Burden Hours: 2,021.

Ruth Brown,
Departmental Information Collection Clearance Officer.

[FR Doc. 2018-28024 Filed 12-26-18; 8:45 am]

BILLING CODE 3410-34-P